DEPARTMENT OF COMMERCE

Foreign-Trade Zones Board

[Order No. 1428]

Expansion of Foreign-Trade Zone 40; Cleveland, OH, Area

Pursuant to its authority under the Foreign-Trade Zones Act of June 18, 1934, as amended (19 U.S.C. 81a-81u), the Foreign-Trade Zones Board (the Board) adopts the following Order:

Whereas, the Cleveland-Cuyahoga County Port Authority, grantee of Foreign-Trade Zone 40, submitted an application to the Board for authority to expand FTZ 40 to include a new site at the Ashtabula Distribution Center, LLC (Site 11, 29 acres) in Ashtabula Township, Ohio, adjacent to the Cleveland Customs port of entry (FTZ Docket 59-2004, filed 12/17/04);

Whereas, notice inviting public comment has been given in the Federal Register (69 FR 74492, 12/29/04) and the application has been processed pursuant to the FTZ Act and the Board's regulations; and,

Whereas, the Board adopts the findings and recommendations of the examiner's report, and finds that the requirements of the FTZ Act and the Board's regulations would be satisfied, and that approval of the application would be in the public interest;

Now, Therefore, the Board hereby orders: The application to expand FTZ 40 is approved, subject to the FTZ Act and the Board's regulations, including section 400.28, and further subject to the Board's standard 2,000 acre limit for the overall zone project.

Signed at Washington, DC, this 21st day December 2005.
Joseph A. Spetrini,
Acting Assistant Secretary of Commerce for Import Administration, Alternate Chairman, Foreign-Trade Zones Board.

[FR Doc. E5-8150 Filed 12-29-05; 8:45 am]

BILLING CODE 3510-DS-P